DEPARTMENT OF HEALTH AND HUMAN SERVICES

Centers for Disease Control and Prevention

Center for State, Tribal, Local and Territorial Support (CSTLTS), CDC/ATSDR Tribal Advisory Committee (TAC) Meeting and 19th Biannual Tribal Consultation Session

AGENCY: Centers for Disease Control and Prevention (CDC), Department of Health and Human Services (HHS).

ACTION: Notice of meeting.

SUMMARY: The Centers for Disease Control and Prevention (CDC)/Agency for Toxic Substances and Disease Registry (ATSDR), announces the following meeting and Tribal Consultation Session. The meetings are being hosted by CDC/ATSDR in-person only and are open to the public. Attendees must pre-register for the event by Friday, July 19, 2019, at the following link: https://www.cdc.gov/tribal/consultation-support/tac/index.html.

DATES: The meeting will be held on August 13-14, 2019.

August 13, 2019

• 8:00 a.m.-9:30 a.m., EDT—Tribal Caucus (Open only to elected tribal officials and by invitation)

• 9:30 a.m.-5:45 p.m., EDT—CDC/ATSDR TAC Meeting (Open to the public)

August 14, 2019

• 8:00 a.m.-9:30 a.m., EDT—Tribal Caucus (Open only to elected tribal officials and by invitation)

• 9:30 a.m.-5:45 p.m., EDT—CDC/ATSDR TAC Meeting (Open to the public)

ADDRESSES: Harrah's Cherokee, 77 Casino Drive, Cherokee, NC 28719.

FOR FURTHER INFORMATION CONTACT: Captain Carmen Clelland, PharmD, MPA, MPH, Director, Office of Tribal Affairs and Strategic Alliances, Center for State, Tribal, Local and Territorial Support, CDC, 4770 Buford Highway, Mailstop V18-4, Atlanta, GA 30341-3717; telephone (404) 498-0300; Tribalsupport@cdc.gov.

SUPPLEMENTARY INFORMATION: This meeting is being held in accordance with Presidential Executive Order No. 13175, November 6, 2000, and the Presidential Memorandum of November 5, 2009, and September 23, 2004, Consultation and Coordination with Indian Tribal Governments.

Purpose: The purpose of the TAC and consultation meetings is to advance CDC/ATSDR support for and collaboration with American Indian and Alaska Native (AI/AN) tribes and to improve the health of AI/AN tribes by pursuing goals that include assisting in eliminating the health disparities faced by AI/AN tribes; ensuring that access to critical health and human services and public health services is maximized to advance or enhance the social, physical, and economic status of American Indian and Alaskan Native people; and promoting health equity for all Indian people and communities. To advance these goals, CDC/ATSDR conducts government-to-government consultations with elected tribal officials or their authorized representatives. Consultation is an enhanced form of communication that emphasizes trust, respect, and shared responsibility. It is an open and free exchange of information and opinion among parties that leads to mutual understanding.

Matters To Be Considered: The agenda will include, but not limited to, discussions on securing sustainable funding to Indian Country, ensuring a tribal voice in CDC policy and programs, and current CDC priorities. The discussion topics are subject to revision as prioritize change. The TAC Meeting and Biannual Tribal Consultation Session will provide opportunities for elected AI/AN tribal officials to speak openly about the public health issues affecting their tribal nations. Tribal nations also will have an opportunity to present testimony about tribal public health issues. All elected tribal officials are encouraged to submit written testimony by 5:00 p.m., EDT, Friday, July 19, 2019 to Captain Carmen Clelland, Pharm, MPA, MPH, Director, Office of Tribal Affairs and Strategic Alliances via mail to 4770 Buford Highway, Mailstop V18-4, Atlanta, GA 30341-3717, or by email at TribalSupport@cdc.gov. Elected tribal officials can find guidance to assist in developing tribal testimony for CDC/ATSDR at www.cdc.gov/tribal/consultation-support/index.html. Please submit tribal testimony on official tribal letterhead.

Based on the number of elected tribal officials giving testimony and the time available, it may be necessary to limit the time for each presenter.

Additional information about the TAC, CDC/ATSDR's Tribal Consultation Policy, and previous meetings can be found at www.cdc.gov/tribal/consultataion-support/index.html. Agenda items are subject to change as priorities dictate.

The Chief Operating Officer, Centers for Disease Control and Prevention, has been delegated the authority to sign Federal Register notices pertaining to announcements of meetings and other committee management activities, for both the Centers for Disease Control and Prevention and the Agency for Toxic Substances and Disease Registry.

Sherri Berger,
Chief Operating Officer, Centers for Disease Control and Prevention.

[FR Doc. 2019-12724 Filed 6-14-19; 8:45 am]

BILLING CODE 4160-18-P